DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by October 6, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to section 10(c) of the Endangered Species Act of 1973, as amended (16 U.S.C. 1531, et seq.). Written data, comments, or requests for copies of these complete applications should be submitted to the Director (address above).

Applicant: Howard N. Kem, Deer Island, OR,

PRT-076153

The applicant requests a permit to import the sport-hunted trophy of one male bontebok (Damaliscus pygargus dorcas) culled from a captive herd maintained under the management program of the Republic of South Africa for the purpose of survival of the species.

Applicant: Idaho Department of Fish and Game, Couerd'Alene, ID,

PRT-075486

The applicant requests a permit to export preserved larval white sturgeon (Acipenser transmontanus) to the University of New Brunswick, NB, Canada for the purpose of scientific research.

Endangered Marine Mammals and Marine Mammals

The public is invited to comment on the following application(s) for a permit to conduct certain activities with endangered marine mammals and/or marine mammals. The application(s) was/were submitted to satisfy requirements of the Endangered Species Act of 1973, as amended (16 U.S.C. 1531, et seq.) and/or the Marine Mammal Protection Act of 1972, as amended (16 U.S.C. 1361 et seq.), and the regulations governing endangered species (50 CFR part 17) and/or marine mammals (50 CFR part 18). Written data, comments, or requests for copies of the complete applications or requests for a public hearing on these applications should be submitted to the Director (address above). Anyone requesting a hearing should give specific reasons why a hearing would be appropriate. The holding of such a hearing is at the discretion of the Director.

Applicant: Georgia Southern University, Statesboro, GA,

PRT-066878

The applicant request a permit to collect biological samples and conduct behavioral observations, e.g., feeding, and stimuli responses on manatees, (Trichechus manatus latirostris) for the purpose of scientific research to better understand species dynamics. The applicant requests authority to conduct these activities on variable numbers of captive held and free ranging animals. This notification covers activities to be conducted by the applicant over a five-year period.

Applicant: University of Florida/College of Veterinary Medicine, Gainsville, FL,

PRT-067116

The applicant request a permit to collect biological samples from manatees, (Trichechus manatus latirostris) for the purpose of scientific research to develop veterinary medical understandings and base-line information for diagnostic purposes. The applicant requests authority to conduct these activities on variable numbers of live and dead free ranging and captive held animals. This notification covers activities to be conducted by the applicant over a five-year period.

Concurrent with the publication of this notice in the Federal Register, the Division of Management Authority is forwarding copies of the above applications to the Marine Mammal Commission and the Committee of Scientific Advisors for their review.

Applicant: Steven K. Raquet, Russiaville, IN,

PRT-075607

The applicant requests a permit to import a polar bear (Ursus maritimus) sport hunted from the Northern Beaufort Sea polar bear population in Canada for personal use.

Applicant: Jesus Mourra, San Antonio, TX,

PRT-076061

The applicant requests a permit to import two polar bear (Ursus maritimus) sport hunted from the Lancaster Sound polar bear population in Canada for personal use.

Dated: August 22, 2003.
Charles S. Hamilton,
Senior Permit Biologist, Branch of Permits, Division of Management Authority.

[FR Doc. 03-22499 Filed 9-3-03; 8:45 am]

BILLING CODE 4310-55-P